DEPARTMENT OF THE TREASURY

Proposed Collection; Comment Request; Office of the Procurement Executive

AGENCY: Department of Treasury, Departmental Offices.

ACTION: Notice and request for comments.

SUMMARY: The Department of the Treasury invites the general public and other Federal agencies to comment on an extension of an existing information collection, as required by the Paperwork Reduction Act of 1995, Public Law 104-13 (44 U.S.C. 3506(c)(2)(A)). The Department of the Treasury, Office of the Procurement Executive, is soliciting comments concerning the Solicitation of Proposal Information for Award of Public Contracts, which is scheduled to expire August 31, 2015.

DATES: Written comments must be received on or before July 6, 2015 to be assured of consideration.

ADDRESSES: You may submit comments by any of the following methods:

Email: Thomas.olinn@treasury.gov. The subject line should contain the OMB number and title for which you are commenting.

Mail: Thomas O'Linn, Office of the Procurement Executive, Department of the Treasury, 1500 Pennsylvania Ave. NW., Metropolitan Square, Suite 6B113, Washington DC 20220.

All responses to this notice will be included in the request for OMB's approval. All comments will also become a matter of public record.

FOR FURTHER INFORMATION CONTACT: Requests for additional information or a copy of the information collection can be directed to the addresses provided above.

SUPPLEMENTARY INFORMATION: OMB Number: 1505-0081.

Type of Review: Extension without change of a currently approved collection.

Title: Solicitation of Proposal Information for Award of Public Contracts.

Abstract: Information being requested is used by the Government's contracting officer and other acquisition personnel, including technical and legal staffs, to evaluate offers and quotations submitted in response to a solicitation. Evaluation may include determining the adequacy of the offeror's proposed technical and management approach, experience, responsibility, responsiveness, expertise of the firms submitting offers. Each acquisition is a stand-alone action that is based upon unique project requirements.

Affected Public: Private Sector: Businesses or other for-profits.

Estimated Number of Respondents: 22,577.

Estimated Number of Responses per Respondent: 1.

Estimated Hours per Response: 9.

Estimated Total Annual Burden Hours: 203,193.

Request for Comments: Comments submitted in response to this notice will be summarized and included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology, and (e) estimates of capital or start-up costs and costs of operation, maintenance, and purchase of services to provide information.

Dated: May 4, 2015.
Dawn D. Wolfgang,
Treasury PRA Clearance Officer.

[FR Doc. 2015-10984 Filed 5-6-15; 8:45 am]

BILLING CODE 4810-25-P